DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 17, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: November 16, 2016.
Roy E. Wright,
Deputy Associate Administrator for Insurance and Mitigation, Department of Homeland Security, Federal Emergency Management Agency.

I. Non-watershed-based studies:

Community | Community map repository address
Adams County, Colorado and Incorporated Areas
Docket No.: FEMA-B-1470
Unincorporated Areas of Adams County | Adams County Government Center, 4430 South Adams County Parkway, Brighton, CO 80601.
Arapahoe County, Colorado and Incorporated Areas
Docket No.: FEMA-B-1470
City of Aurora | Public Works Department, 15151 East Alameda Parkway, Suite 3200, Aurora, CO 80012.
City of Centennial | Southeast Metro Stormwater Authority, 7437 South Fairplay Street, Centennial, CO 80112.
City of Greenwood Village | City Hall, 6060 South Quebec Street, Greenwood Village, CO 80111.
Unincorporated Areas of Arapahoe County | Public Works and Development, Lima Plaza, 6924 South Lima Street, Centennial, CO 80112.
Douglas County, Colorado and Incorporated Areas
Docket No.: FEMA-B-1470
City of Lone Tree | Public Works Department, 9222 Teddy Lane, Lone Tree, CO 80124.
Unincorporated Areas of Douglas County | Department of Public Works Engineering, 100 3rd Street, Castle Rock, CO 80104.
Whiteside County, Illinois and Incorporated Areas
Docket No.: FEMA-B-1553
City of Fulton | Fulton City Hall, 415 11th Avenue, Fulton, IL 61252.
Unincorporated Areas of Whiteside County | Whiteside County Courthouse, 200 East Knox Street, Morrison, IL 61270.
Loudoun County, Virginia and Incorporated Areas
Docket No.: FEMA-B-1515
Town of Hillsboro | Town Hall, 36966 Charles Town Pike, Hillsboro, VA 20132.
Town of Leesburg | Town Hall, 25 West Market Street, Leesburg, VA 20176.
Town of Lovettsville | Town Hall, 6 East Pennsylvania Avenue, Lovettsville, VA 20180.
Town of Middleburg | Town Office, 10 West Marshall Street, Middleburg, VA 20118.
Town of Purcellville | Town Hall, 221 South Nursery Avenue, Purcellville, VA 20132.
Town of Round Hill | Loudoun County Building, Building and Development Department, 1 Harrison Street, Southeast, Leesburg, VA 20177.
Unincorporated Areas of Loudoun County | Loudoun County Building, Building and Development Department, 1 Harrison Street, Southeast, Leesburg, VA 20177.
City of Norfolk, Virginia (Independent City)
Docket No.: FEMA-B-1504
City of Norfolk | Planning Department, 810 Union Street, Suite 508, Norfolk, VA 23510.

[FR Doc. 2016-28524 Filed 11-25-16; 8:45 am]

BILLING CODE 9110-12-P